DEPARTMENT OF COMMERCE

National Oceanic and Atmospheric Administration

50 CFR Part 665

[Docket No. 220318-0074]

RIN 0648-BK90

Pacific Island Fisheries; 2022-2025 Annual Catch Limits and Accountability Measures for Main Hawaiian Islands Uku (Gray Jobfish)

Correction

In rule document 2022-06285, appearing on pages 17195 through 17196 in the issue of Monday, March 28, 2022, make the following correction:

§ 665.211 Annual Catch Limits (ACL) and Annual Catch Targets (ACT) [Corrected]

1. On page 17196, in the table at the top-center of the page, in the eighth line and fourteenth lines, the column headings containing the acronym for Annual Catch Target (“ACT”) are corrected to read “ACL”, the acronym for Annual Catch Limit. The table is corrected to print as set forth below:

[FR Doc. C1-2022-06285 Filed 12-22-22; 8:45 am]

BILLING CODE 0099-10-D